DEPARTMENT OF THE INTERIOR

Minerals Management Service

Agency Information Collection Activities: Submitted for Office of Management and Budget (OMB) Review; Comment Request

AGENCY: Minerals Management Service (MMS), Interior.

ACTION: Notice of a revision of a currently approved information collection (OMB Control Number 1010-0090).

SUMMARY: To comply with the Paperwork Reduction Act of 1995 (PRA), we are notifying the public that we have submitted to OMB an information collection request (ICR) to renew approval of the information collection requirements in the regulations at 30 CFR 216MRM1.57. This notice also provides the public a second opportunity to comment on the paperwork burden of these regulatory requirements. We shortened the title of this ICR to accommodate OMB requirements. The previous title was “30 CFR 216, Subpart B—Oil and Gas, General, § 216.57 Stripper Royalty Rate Reduction Notification.” The new title is “30 CFR 216.57, Stripper Royalty Rate Reduction Notification.” Form MMS-4377, Stripper Royalty Rate Reduction Notification, is used to collect the information.

DATES: Submit written comments on or before November 1, 2007.

ADDRESSES: Submit written comments by either FAX (202) 395-6566 or e-mail (OIRA_Docket@omb.eop.gov) directly to the Office of Information and Regulatory Affairs, OMB, Attention: Desk Officer for the Department of the Interior (OMB Control Number 1010-0090).

Please also send a copy of your comments to MMS via e-mail at mrm.comments@mms.gov. Include the title of the information collection and the OMB control number in the “Attention” line of your comment. Also include your name and return address. If you do not receive a confirmation that we have received your e-mail, contact Ms. Gebhardt at (303) 231-3211.

You may also mail a copy of your comments to Sharron L. Gebhardt, Lead Regulatory Specialist, Minerals Management Service, Minerals Revenue Management, P.O. Box 25165, MS 302B2, Denver, Colorado 80225. If you use an overnight courier service or wish to hand-deliver your comments, our courier address is Building 85, Room A-614, Denver Federal Center, West 6th Ave. and Kipling Blvd., Denver, Colorado 80225.

FOR FURTHER INFORMATION CONTACT: Sharron L. Gebhardt, telephone (303) 231-3211, FAX (303) 231-3781, e-mail Sharron.Gebhardt@mms.gov. You may also contact Sharron Gebhardt to obtain copies, at no cost, of (1) the ICR, (2) any associated forms, and (3) regulations that require the subject collection of information.

SUPPLEMENTARY INFORMATION: Title: 30 CFR 216.57, Stripper Royalty Rate Reduction Notification.

OMB Control Number: 1010-0090.

Bureau Form Number: Form MMS-4377.

Abstract: The Secretary of the U.S. Department of the Interior is responsible for matters relevant to mineral resource development on Federal and Indian lands and the Outer Continental Shelf (OCS). The Secretary, under the Mineral Leasing Act (30 U.S.C. 1923) and the Outer Continental Shelf Lands Act (43 U.S.C. 1353), is responsible for managing the production of minerals from Federal and Indian lands and the OCS, collecting royalties from lessees who produce minerals, and distributing the funds collected in accordance with applicable laws. The MMS performs the royalty management functions for the Secretary. Public laws pertaining to mineral royalties are located on our Web site at http://www.mrm.mms.gov/Laws_R_D/PublicLawsAMR.htm.

Under 43 CFR 3103.4-2, the Stripper Royalty Rate Reduction Program was established by the Bureau of Land Management (BLM), the surface management agency for Federal onshore leases. As a benefit under this program, BLM approved royalty rate reductions for operators of stripper oil properties for applicable sales periods from October 1, 1992, through January 31, 2006. Effective February 1, 2006, the benefits of reduced royalty rates under this program were terminated, although this change is not currently reflected in the CFR.

For production through January 31, 2006, reporters used Form MMS-4377, Stripper Royalty Rate Reduction Notification, to notify MMS of royalty rate changes. Although the benefits were terminated, MMS continues to verify previously submitted notifications and may require the operator to submit an amended Form MMS-4377.

The MMS requests OMB approval to continue to collect this information. Not collecting this information would limit the Secretary's ability to discharge his/her duties and may also result in loss of royalty payments. Proprietary information submitted is protected, and there are no questions of a sensitive nature included in this information collection.

Frequency: As requested.

Estimated Number and Description of Respondents: 150 lessees/lessors.

Estimated Annual Reporting and Recordkeeping “Hour” Burden: 180 hours.

We have not included in our estimates certain requirements performed in the normal course of business and considered usual and customary. The following chart shows the estimated burden hours by CFR section and paragraph:

Respondents' Estimated Annual Burden Hours
30 CFR 216 subpart B | Reporting and recordkeeping requirement | Hour burden | Average number of annual responses | Annual burden hours
216.57 | Stripper royalty rate reduction notification | 1.2 | 150 | 180
| In accordance with its regulations at 43 CFR 3103.4-1, titled “Waiver, suspension, or reduction of rental, royalty, or minimum royalty,” the Bureau of Land Management (BLM) may grant reduced royalty rates to operators of low producing oil leases to encourage continued production. Operators who have been granted a reduced royalty rate(s) by BLM must submit a Stripper Royalty Rate Reduction Notification (Form MMS-4377) to MMS for each 12-month qualifying period that a reduced royalty rate(s) is granted.
| [58 FR 64903, Dec. 10, 1993]
| Please note the BLM citation and title changed to 43 CFR 3103.4-2 Stripper well royalty reductions.
Total Burden |  |  | 150 | 180

Estimated Annual Reporting and Recordkeeping “Non-hour” Cost Burden: We have identified no “non-hour cost” burden associated with the collection of information.

Public Disclosure Statement: The PRA (44 U.S.C. 3501 et seq.) provides that an agency may not conduct or sponsor, and a person is not required to respond to, a collection of information unless it displays a currently valid OMB control number.

Comments: Section 3506(c)(2)(A) of the PRA requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, we published a notice in the Federal Register on November 6, 2006 (71 FR 64978), announcing that we would submit this ICR to OMB for approval. The notice provided the required 60-day comment period. We received no comments in response to the notice.

If you wish to comment in response to this notice, you may send your comments to the offices listed under the ADDRESSES section of this notice. The OMB has up to 60 days to approve or disapprove the information collection but may respond after 30 days. Therefore, to ensure maximum consideration, OMB should receive public comments by November 1, 2007.

Public Comment Policy: We will post all comments in response to this notice on our Web site at http://www.mrm.mms.gov/Laws_R_D/InfoColl/InfoColCom.htm. Before including your address, phone number, e-mail address, or other personal identifying information in your comment, you should be aware that your entire comment—including your personal identifying information—may be made publicly available at any time. We will also make copies of the comments available for public review, including names and addresses of respondents, during regular business hours at our offices in Lakewood, Colorado. Upon request, we will withhold an individual respondent's home address from the public record, as allowable by law. There also may be circumstances in which we would withhold a respondent's identity, as allowable by law. If you request that we withhold your name and/or address, state your request prominently at the beginning of your comment. However, we will not consider anonymous comments. We will make all submissions from organizations or businesses, and from individuals identifying themselves as representatives or officials of organizations or businesses, available for public inspection in their entirety.

MMS Information Collection Clearance Officer: Arlene Bajusz (202) 208-7744.

Dated: July 30, 2007.
Lucy Querques Denett,
Associate Director for Minerals Revenue Management.

[FR Doc. E7-19377 Filed 10-1-07; 8:45 am]

BILLING CODE 4310-MR-P